DEPARTMENT OF TRANSPORTATION

Federal Aviation Administration

14 CFR Part 39

[Docket No. FAA-2022-0014; Project Identifier AD-2021-00114-A]

RIN 2120-AA64

Airworthiness Directives; Textron Aviation Inc. (Type Certificate Previously Held by Cessna Aircraft Company) Airplanes

AGENCY: Federal Aviation Administration (FAA), DOT.

ACTION: Notice of proposed rulemaking (NPRM).

SUMMARY: The FAA proposes to adopt a new airworthiness directive (AD) for certain Textron Aviation Inc. (Textron) Model 120 and 140 airplanes and all Model 140A airplanes. This proposed AD was prompted by reports of seat belt center bracket failures from overstress. This proposed AD would require determining if the seat belt center bracket is made of steel and replacing any non-steel brackets. The FAA is proposing this AD to address the unsafe condition on these products.

DATES: The FAA must receive comments on this proposed AD by March 14, 2022.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Textron Aviation Inc., One Cessna Blvd., Wichita, KS 67215; phone: (316) 517-5800; email: customercare@txtav.com; website: https://support.cessna.com. You may view this service information at the FAA, Airworthiness Products Section, Operational Safety Branch, 901 Locust, Kansas City, MO 64106. For information on the availability of this material at the FAA, call (817) 222-5110.

Examining the AD Docket

You may examine the AD docket at https://www.regulations.gov by searching for and locating Docket No. FAA-2022-0014; or in person at Docket Operations between 9 a.m. and 5 p.m., Monday through Friday, except Federal holidays. The AD docket contains this NPRM, any comments received, and other information. The street address for Docket Operations is listed above.

FOR FURTHER INFORMATION CONTACT: Bobbie Kroetch, Aviation Safety Engineer, Wichita ACO Branch, FAA, 1801 Airport Road, Wichita, KS 67209; phone: (316) 946-4155; email: bobbie.kroetch@faa.gov or Wichita-COS@faa.gov.

SUPPLEMENTARY INFORMATION:

Comments Invited

The FAA invites you to send any written relevant data, views, or arguments about this proposal. Send your comments to an address listed under ADDRESSES. Include “Docket No. FAA-2022-0014; Project Identifier AD-2021-00114-A” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to https://www.regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Bobbie Kroetch, Aviation Safety Engineer, Wichita ACO Branch, FAA, 1801 Airport Road, Wichita, KS 67209. Any commentary that the FAA receives which is not specifically designated as CBI will be placed in the public docket for this rulemaking.

Background

The FAA has received multiple reports of the seat belt center bracket failing on Textron (Type Certificate previously held by Cessna Aircraft Company) Model 120 and 140 airplanes, including a 2014 fatal accident where a Model 140 airplane nosed over on landing, and the seat belt center bracket failed. To address that accident, the FAA issued Special Airworthiness Information Bulletin CE-15-13, dated April 15, 2015, recommending operators replace aluminum brackets with steel brackets. In 2020, another fatal accident occurred when a Model 140 airplane nosed over during an aborted takeoff, and the seat belt center bracket failed. A metallurgical analysis determined the part failed due to overstress. There have been four additional occurrences of seat belt center bracket failure on Model 120 and 140 airplanes, two of which resulted in occupant injury.

Analysis of the failures determined the original aluminum seat belt center bracket does not have sufficient strength and can fail due to overstress during incidents and accidents. The aluminum brackets and the steel brackets both have the same part number (part number 0425132). Although Model 140A airplanes were manufactured with steel seat belt center brackets, owners of Model 140A airplanes could have replaced the steel bracket with an aluminum bracket; therefore, the FAA determined the unsafe condition also exists on Model 140A airplanes.

This condition, if not addressed, could result in failure of the seat belt center bracket, which could lead to failure of the seat belt restraint system and injury to occupants.

FAA's Determination

The FAA is issuing this NPRM after determining that the unsafe condition described previously is likely to exist or develop on other products of the same type design.

Related Service Information

The FAA reviewed Cessna Single Engine Service Bulletin SEB-25-03, dated February 17, 2015. This service information specifies the location of the affected seat belt center bracket. This service information also contains a figure depicting the location of the seatbelt center bracket.

Proposed AD Requirements in This NPRM

This proposed AD would require determining if the seat belt center bracket material is made of steel. An owner/operator (pilot) may perform this check and must enter compliance with the applicable paragraph of this AD in the aircraft maintenance records in accordance with 14 CFR 43.9(a)(1) through (4) and 14 CFR 91.417(a)(2)(v). A pilot may perform this action because it involves a one-time check to determine material. This check is an exception to the FAA's standard maintenance regulations.

This proposed AD would also require replacing any non-steel bracket with a steel bracket and would prohibit installing a non-steel bracket on any airplane.

Costs of Compliance

The FAA estimates that this AD, if adopted as proposed, would affect 2,033 airplanes of U.S. registry.

The FAA estimates the following costs to comply with this proposed AD:

Estimated Costs
Action | Labor cost | Parts cost | Cost per airplane | Cost on U.S. operators
Determine material of the seat belt center bracket | 0.25 work-hour × $85 per hour = $21.25 | Not applicable | $21.25 | $43,201.25

The FAA estimates the following costs to do any necessary replacements that may be required. The agency has no way of determining the number of airplanes that might need these replacements:

On-Condition Costs
Action | Labor cost | Parts cost | Cost per airplane
Replace any non-steel seat belt center bracket | 0.75 work-hour × $85 per hour = $63.75 | $79 | $142.75

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Textron Aviation Inc. (Type Certificate previously held by Cessna Aircraft Company): Docket No. FAA-2022-0014; Project Identifier AD-2021-00114-A.

(a) Comments Due Date

The FAA must receive comments on this airworthiness directive (AD) by March 14, 2022.

(b) Affected ADs

None.

(c) Applicability

This AD applies to Textron Aviation Inc. (Type Certificate previously held by Cessna Aircraft Company) Model 120 and 140 airplanes, serial numbers (S/Ns) 10070 through 15075, and Model 140A airplanes, all serial numbers, certificated in any category.

(d) Subject

Joint Aircraft System Component (JASC) Code 2510, Flight Compartment Equipment.

(e) Unsafe Condition

This AD was prompted by reports of seat belt center bracket failures from overstress. The FAA is issuing this AD to prevent failure of the seat belt center brackets. The unsafe condition, if not addressed, could result in failure of the seat belt center bracket, which could lead to failure of the seat belt restraint system and injury to occupants.

(f) Compliance

Comply with this AD within the compliance times specified, unless already done.

(g) Required Actions

(1) Within 12 months after the effective date of this AD, determine if the seatbelt center bracket located between the two seats is made of steel by placing a magnet on the center of the bracket. This action may be performed by the owner/operator (pilot) holding at least a private pilot certificate and must be entered into the aircraft records showing compliance with this AD in accordance with 14 CFR 43.9(a)(1) through (4) and 14 CFR 91.417(a)(2)(v). The record must be maintained as required by 14 CFR 91.417. This authority is not applicable to aircraft being operated under 14 CFR part 119.

(i) If the seat belt center bracket is made of steel, no additional action is required.

(ii) If the seat belt center bracket is not made of steel, within 12 months after the effective date of this AD, replace with a steel part number (P/N) 0425132 seat belt center bracket.

(2) As of the effective date of this AD, do not install a seat belt center bracket P/N 0425132 that is not made of steel on any airplane.

(h) Alternative Methods of Compliance (AMOCs)

(1) The Manager, Wichita ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (i) of this AD.

(2) Before using any approved AMOC, notify your appropriate principal inspector, or lacking a principal inspector, the manager of the local flight standards district office/certificate holding district office.

(i) Related Information

For more information about this AD, contact Bobbie Kroetch, Aviation Safety Engineer, Wichita ACO Branch, FAA, 1801 Airport Road, Wichita, KS 67209; phone: (316) 946-4155; email: bobbie.kroetch@faa.gov or Wichita-COS@faa.gov.

Issued on January 20, 2022.
Ross Landes,
Deputy Director for Regulatory Operations, Compliance & Airworthiness Division, Aircraft Certification Service.

[FR Doc. 2022-01541 Filed 1-26-22; 8:45 am]

BILLING CODE 4910-13-P